DEPARTMENT OF COMMERCE

National Oceanic and Atmospheric Administration

RIN 0648-XD09

Marine Mammals; File No. 532-1822-03

AGENCY: National Marine Fisheries Service (NMFS), National Oceanic and Atmospheric Administration (NOAA), Commerce.

ACTION: Notice; issuance of permit amendment.

SUMMARY: Notice is hereby given that Kenneth Balcomb, Center for Whale Studies, P.O. Box 1577, Friday Harbor, WA 98250 has been issued an amendment to scientific research Permit No. 532-1822-02.

ADDRESSES: The amendment and related documents are available for review upon written request or by appointment in the following office(s):

Permits, Conservation and Education Division, Office of Protected Resources, NMFS, 1315 East-West Highway, Room 13705, Silver Spring, MD 20910; phone (301)713-2289; fax (301)427-2521; and

Northwest Region, NMFS, 7600 Sand Point Way NE, BIN C15700, Bldg. 1, Seattle, WA 98115-0700; phone (206)526-6150; fax (206)526-6426.

FOR FURTHER INFORMATION CONTACT: Jaclyn Daly or Jennifer Skidmore, (301)713-2289.

SUPPLEMENTARY INFORMATION: On October 10, 2007, notice was published in the Federal Register (72 FR 57523) that an amendment of Permit No. 532-1882-02, issued July 17, 2006, had been requested by the above-named individual. The requested amendment has been granted under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226).

The purpose of the amendment is to obtain distribution and movement data of southern resident killer whales during the spring, fall, and winter months via satellite tagging. The permit amendment authorizes the tagging of up to 6 individual adult or sub-adult male southern resident killer whales per year, three of which may be re-tagged per year, throughout the inland waters of Washington and the coastal waters of Washington, Oregon, and California. No more than 12 individuals are authorized to be tagged for the duration of the permit. The permit will expire on April 14, 2011.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of such endangered species; and (3) is consistent with the purposes and policies set forth in section 2 of the ESA.

Dated: November 10, 2008.
P. Michael Payne,
Chief, Permits, Conservation and Education Division, Office of Protected Resources, National Marine Fisheries Service.

[FR Doc. E8-27223 Filed 11-14-08; 8:45 am]

BILLING CODE 3510-22-S